SECURITIES AND EXCHANGE COMMISSION

[File No. 500-1]

In the Matter of: SwedishVegas, Inc.; Order of Suspension of Trading

July 23, 2008.

It appears to the Securities and Exchange Commission that there is a lack of current and accurate information concerning the securities of SwedishVegas, Inc.

The Commission is of the opinion that the public interest and the protection of investors require a suspension of trading in the securities of the above-listed company.

Therefore, it is ordered, pursuant to section 12(k) of the Securities Exchange Act of 1934, that trading in the above-listed company is suspended for the period commencing at 9:30 a.m. EDT, July 23, 2008, and terminating at 11:59 p.m. EDT, on August 5, 2008.

By the Commission.
Florence E. Harmon,
Acting Secretary.

[FR Doc. 08-1466 Filed 7-23-08; 10:54 am]

BILLING CODE 8010-01-P